DEPARTMENT OF THE INTERIOR

Bureau of Land Management

[AA-8096-03; LLAK964000-L14100000-KC0000-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Chugach Alaska Corporation. The lands are in the vicinity of Wernicke River, Icy Bay, Cleave Creek, Bremner River, and Tasnuna River, Alaska, and are located in:

Copper River Meridian, Alaska

T. 9 S., R. 2 E.,

Sec. 34.

Containing approximately 634 acres.

T. 12 S., R. 5 E.,

Secs. 2, 3, 10, and 11;

Secs. 14, 15, 22, and 23;

Secs. 25, 26, and 27;

Secs. 34, 35 and 36.

Containing approximately 6,916 acres.

T. 10 S., R. 6 E.,

Secs. 25 to 30, inclusive.

Containing approximately 3,817 acres.

T. 12 S., R. 6 E.,

Secs. 30 and 31.

Containing approximately 1,277 acres.

T. 10 S., R. 7 E.,

Secs. 11 to 14, inclusive;

Secs. 24 and 25.

Containing approximately 3,786 acres.

T. 21 S., R. 25 E.,

Secs. 16 to 19, inclusive.

Containing approximately 2,505 acres.

Aggregating of approximately 18,934 acres.

Notice of the decision will also be published four times in the Cordova Times.

DATES: The time limits for filing an appeal are:

1. Any party claiming a property interest which is adversely affected by the decision shall have until December 14, 2009 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8339, 24 hours a day, seven days a week, to contact the Bureau of Land Management.

Hillary Woods,
Land Law Examiner, Land Transfer Adjudication I Branch.

[FR Doc. E9-27084 Filed 11-10-09; 8:45 am]

BILLING CODE 4310-JA-P